DEPARTMENT OF HOMELAND SECURITY

Coast Guard

[USCG-2005-22878]

Collection of Information Under Review by Office of Management and Budget (OMB): 1625-0022, 1625-0079, and 1625-0088, 1625-0093, and 1625-0094

AGENCY: Coast Guard, DHS.

ACTION: Request for comments.

SUMMARY: In compliance with the Paperwork Reduction Act of 1995, this request for comments announces that the Coast Guard has forwarded five Information Collection Requests (ICRs), abstracted below, to the Office of Information and Regulatory Affairs (OIRA) of the Office of Management and Budget (OMB) for review and comment. The ICRs are as follows: (1) 1625-0022, Application for Tonnage Measurement of Vessels; (2) 1625-0079, Standards of Training, Certification and Watchkeeping for Seafarers (STCW), 1995 and 1997 Amendments to the International Convention; (3) 1625-0088, Voyage Planning for Tank Barge Transits in the Northeast United States; (4) 1625-0093, Facilities Transferring Oil or Hazardous Materials in Bulk—Letter of Intent and Operations Manual; and (5) 1625-0094, Ships Carrying Bulk Hazardous Liquids. Our ICR describes the information we seek to collect from the public. Review and comment by OIRA ensures that we impose only paperwork burdens commensurate with our performance of duties.

DATES: Please submit comments on or before February 24, 2006.

ADDRESSES: To make sure that your comments and related material do not reach the docket [USCG-2005-22878] or OIRA more than once, please submit them by only one of the following means:

(1)(a) By mail to the Docket Management Facility, U.S. Department of Transportation (DOT), room PL-401, 400 Seventh Street SW., Washington, DC 20590-0001. (b) By mail to OIRA, 725 17th Street NW., Washington, DC 20503, to the attention of the Desk Officer for the Coast Guard.

(2)(a) By delivery to room PL-401 at the address given in paragraph (1)(a) above, between 9 a.m. and 5 p.m., Monday through Friday, except Federal holidays. The telephone number is (202) 366-9329. (b) By delivery to OIRA, at the address given in paragraph (1)(b) above, to the attention of the Desk Officer for the Coast Guard.

(3) By fax to (a) the Facility at (202) 493-2298 and (b) OIRA at (202) 395-6566, or e-mail to OIRA at oira-docket@omb.eop.gov attention: Desk Officer for the Coast Guard.

(4)(a) Electronically through the Web Site for the Docket Management System (DMS) at http://dms.dot.gov. (b) OIRA does not have a Web site on which you can post your comments.

The Docket Management Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICRs are available through this docket on the Internet at http://dms.dot.gov, and also from Commandant (CG-611), U.S. Coast Guard Headquarters, room 1236 (Attn: Mr. Arthur Requina), 1900 Half Street SW., Washington, DC 20593-0001. The telephone number is (202) 475-3523.

FOR FURTHER INFORMATION CONTACT: Mr. Arthur Requina, Office of Information Management, telephone (202) 475-3523 or fax (202) 475-3929, for questions on these documents; or Ms. Renee V. Wright, Program Manager, Docket Operations, (202) 493-0402, for questions on the docket.

SUPPLEMENTARY INFORMATION: The Coast Guard invites comments on the proposed collections of information to determine whether the collections are necessary for the proper performance of the functions of the Department. In particular, the Coast Guard would appreciate comments addressing: (1) The practical utility of the collections; (2) the accuracy of the estimated burden of the collections; (3) ways to enhance the quality, utility, and clarity of the information that is the subject of the collections; and (4) ways to minimize the burden of collections on respondents, including the use of automated collection techniques or other forms of information technology.

Comments to DMS or OIRA must contain the OMB Control Number of the ICRs addressed. Comments to DMS must contain the docket number of this request, [USCG 2005-22878]. For your comments to OIRA to be considered, it is best if OIRA receives them on or before the February 24, 2006.

Public participation and request for comments: We encourage you to respond to this request for comments by submitting comments and related materials. We will post all comments received, without change, to http://dms.dot.gov, and they will include any personal information you have provided. We have an agreement with DOT to use their Docket Management Facility. Please see the paragraph on DOT's “Privacy Act Policy” below.

Submitting comments: If you submit a comment, please include your name and address, identify the docket number for this request for comment [USCG-2005-22878], indicate the specific section of this document or the ICR to which each comment applies, and give the reason for each comment. You may submit your comments and material by electronic means, mail, fax, or delivery to the Docket Management Facility at the address under ADDRESSES, but please submit them by only one means. If you submit them by mail or delivery, submit them in an unbound format, no larger than 8½ by 11 inches, suitable for copying and electronic filing. If you submit them by mail and would like to know that they reached the Facility, please enclose a stamped, self-addressed postcard or envelope.

The Coast Guard and OIRA will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Previous Request for Comments.

This request provides a 30-day comment period required by OIRA. The Coast Guard has already published the 60-day notice (70 FR 69346, November 15, 2005) required by 44 U.S.C. 3506(c)(2). That notice elicited no comment.

Information Collection Request

1. Title: Application for Tonnage Measurement of Vessels.

OMB Control Number: 1625-0022.

Type Of Request: Extension of a currently approved collection.

Affected Public: Owners of vessels.

Forms: CG-5397.

Abstract: The information from this collection helps the Coast Guard to determine a vessel's tonnage. Tonnage in turn helps to determine licensing, inspection, safety requirements, and operating fees.

Burden Estimate: The estimated burden has increased from 33,000 hours to 38,000 hours a year.

2. Title: Standards of Training, Certification and Watchkeeping for Seafarers (STCW), 1995 and 1997 Amendments to the International Convention.

OMB Control Number: 1625-0079.

Type of Request: Extension of a currently approved collection.

Affected Public: Owners and operators of vessels, training institutions, and mariners.

Forms: None.

Abstract: This information is necessary to ensure compliance with the international requirements of the STCW Convention, and to maintain an acceptable level of quality in activities associated with training and assessment of merchant mariners.

Burden Estimate: The estimated burden has increased from 18,693 hours to 23,767 hours a year.

3. Title: Voyage Planning for Tank Barge Transits in the Northeast United States.

OMB Control Number: 1625-0088.

Type of Request: Extension of a currently approved collection.

Affected Public: Owners and operators of towing vessels.

Forms: None.

Abstract: The information collection requirement for a voyage plan serves as a preventive measure and assists in ensuring the successful execution and completion of a voyage in the First Coast Guard District. This rule (33 CFR 165.100) applies to primary towing vessels engaged in towing certain tank barges carrying petroleum oil in bulk as cargo.

Burden Estimate: The estimated burden has increased from 420 hours to 31,651 hours a year.

4. Title: Facilities Transferring Oil or Hazardous Materials in Bulk—Letter of Intent and Operations Manual.

OMB Control Number: 1625-0093.

Type of Request: Extension of a currently approved collection.

Affected Public: Operators of facilities that transfer oil or hazardous materials in bulk.

Forms: None.

Abstract: A Letter of Intent is a notice to the Coast Guard Captain of the Port that an operator intends to operate a facility that will transfer bulk oil or hazardous materials to or from vessels. An Operations Manual (OM) is also required for this type of facility. The OM establishes procedures to follow when conducting transfers and in the event of a spill.

Burden Estimate: The estimated burden has increased from 27,819 hours to 47,200 hours a year.

5. Title: Ships Carrying Bulk Hazardous Liquids.

OMB Control Number: 1625-0094.

Type of Request: Extension of a currently approved collection.

Affected Public: Owners and operators of chemical tank vessels.

Forms: CG-4602B, CG-5148, CG-5148A, CG-5148B and CG-5461.

Abstract: This information is needed to ensure the safe transport of bulk hazardous liquids on chemical tank vessels and to protect the environment from pollution.

Burden Estimate: The estimated burden has increased from 738 hours to 1,959 hours a year.

Dated: January 19, 2006.
R.T. Hewitt,
Rear Admiral, U.S. Coast Guard, Assistant Commandant for Command, Control, Communications, Computers and Information Technology

[FR Doc. E6-854 Filed 1-24-06; 8:45 am]

BILLING CODE 4910-15-P